DEPARTMENT OF TRANSPORTATION

Surface Transportation Board

[STB Finance Docket No. 34044]

Grand Trunk Western Railroad Incorporated—Trackage Rights Exemption—Indiana Harbor Belt Railroad Company

Indiana Harbor Belt Railroad Company (IHB) has agreed to grant overhead trackage rights to Grand Trunk Western Railroad Incorporated (GTW) over IHB's rail line extending between milepost 15.2 in Blue Island, IL, and milepost 39.3 in Franklin Park, IL, a total distance of 24.10 miles.

The transaction is scheduled to be consummated on or after May 23, 2001.

The purpose of the trackage rights is to facilitate economical and efficient operation of GTW's overhead traffic from Blue Island to Franklin Park and to interchange traffic to the Soo Line Railroad Company, d/b/a Canadian Pacific Railway, at Bensenville in Franklin Park.

Any employees affected by the subject transaction will be protected by the labor conditions prescribed in Norfolk and Western Ry. Co.—Trackage Rights-BN, 354 I.C.C. 605 (1978), as modified by Mendocino Coast Ry. Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34044, must be filed with the Surface Transportation Board, Office of the Secretary, Case Control Unit, 1925 K Street, N.W., Washington, DC 20423-0001. In addition, one copy of each pleading must be served on Cynthia A. Bergmann, CN/IC Railroad Company, 455 North Cityfront Plaza Dr., Chicago, IL 60611-5318.

Board decisions and notices are available on our website at “WWW.STB.DOT.GOV.”

Decided: May 22, 2001.
By the Board, David M. Konschnik, Director, Office of Proceedings.
Vernon A. Williams,
Secretary.

[FR Doc. 01-13428 Filed 5-30-01; 8:45 am]

BILLING CODE 4915-00-P